DEPARTMENT OF TRANSPORTATION

Federal Highway Administration

Environmental Impact Statement Supplemental: Constantine, MI

AGENCY: Federal Highway Administration (FHWA), DOT.

ACTION: Notice of intent supplemental.

SUMMARY: On June 22, 2000, The FHWA issued a Notice of Intent to prepare an Environmental Impact Statement (EIS) for the proposed improvements to US-131 from the Indiana Toll Road to M-60 including a potential western bypass of the Village of Constantine in St. Joseph County, Michigan. The FHWA is issuing this Notice of Intent to expand its original Notice of Intent dated June 22, 2000, to include the area from M-60 to one mile north of Lovers Lane. The revised study termini will be from the Indiana Toll Road to one mile north of Lovers Lane, a distance of approximately 16 miles.

FOR FURTHER INFORMATION CONTACT: Mr. James Kirschensteiner, Programs and Environmental Engineer, Federal Highway Administration, 315 W. Allegan Street, Lansing, Michigan 48933, Telephone (517) 377-1880, ext. 41 or Mr. Paul Wisney, Manager, Design Division, Michigan Department of Transportation, P.O. Box 30050, Lansing, Michigan 48909, Telephone (517) 335-1905.

SUPPLEMENTARY INFORMATION: The FHWA in cooperation with the Michigan Department of Transportation (MDOT), the Indiana Toll Authority and the Indiana Department of Transportation are expanding the northern limit of the US-131 study in St. Joseph County to include the area from M-60 to one mile north of Lovers Lane. This study expansion will permit close examination of traffic congestion and safety issues to determine what improvements can be made to US-131 in the Three River area, including alternative roadways. The US-131 corridor study encompasses approximately 16 miles of US-131 from the Michigan/Indiana state line to the Park/Lockport township line, and includes the village of Constantine and the city of Three Rivers.

Norman R. Stoner,
Assistant Division Administrator, Lansing, Michigan.

[FR Doc. 01-4570 Filed 2-23-01; 8:45 am]

BILLING CODE 4910-22-M